DEPARTMENT OF COMMERCE

National Oceanic and Atmospheric Administration

50 CFR Part 635

[Docket No. 220919-0193; RTID 0648-XF046]

Atlantic Highly Migratory Species; Atlantic Bluefin Tuna Fisheries; Closure of the Angling Category Gulf of Maine Area Trophy Fishery for 2025

AGENCY: National Marine Fisheries Service (NMFS), National Oceanic and Atmospheric Administration (NOAA), Commerce.

ACTION: Temporary rule; closure.

SUMMARY: NMFS closes the Angling category Gulf of Maine area fishery for large medium and giant (“trophy” (i.e., measuring 73 inches (185 centimeters (cm)) curved fork length (CFL) or greater)) Atlantic bluefin tuna (BFT) for the remainder of the 2025 fishing year. The Gulf of Maine area trophy fishery is defined as north of lat. 42° N. This action applies to Atlantic Highly Migratory Species (HMS) Angling and HMS Charter/Headboat permitted vessels when fishing recreationally for BFT. In addition to this closure, NMFS, through a separate action, is simultaneously closing the Angling category fishery for school and large school/small medium (i.e., measuring 27 inches (68.5 cm) to less than 73 inches (185 cm) CFL) BFT. As a result of these closure actions, the Angling category fishery for BFT of all size classes is closed for the remainder of the year.

DATES: Effective 11:30 p.m., local time, August 12, 2025, through December 31, 2025.

FOR FURTHER INFORMATION CONTACT: Ann Williamson, ann.williamson@noaa.gov, or Larry Redd, Jr., larry.redd@noaa.gov, by email, or by phone at 301-427-8503.

SUPPLEMENTARY INFORMATION: Atlantic BFT fisheries are managed under the 2006 Consolidated HMS Fishery Management Plan (FMP) and its amendments, pursuant to the Magnuson-Stevens Fishery Conservation and Management Act (Magnuson-Stevens Act; 16 U.S.C. 1801 et seq.) and consistent with the Atlantic Tunas Convention Act (ATCA; 16 U.S.C. 971 et seq.). ATCA is the implementing statute for binding recommendations of the International Commission for the Conservation of Atlantic Tunas (ICCAT). The HMS FMP and its amendments are implemented by regulations at 50 CFR part 635. Section 635.27(a) divides the U.S. BFT quota, established by ICCAT and as implemented by the United States among the various domestic fishing categories, per the allocations established in the HMS FMP and its amendments. NMFS is required under the Magnuson-Stevens Act at 16 U.S.C. 1854(g)(1)(D) to provide U.S. fishing vessels with a reasonable opportunity to harvest quotas under relevant international fishery agreements such as the ICCAT Convention, which is implemented domestically pursuant to ATCA.

Under § 635.28(a)(1), NMFS files a closure notice with the Office of the Federal Register for publication when a BFT quota (or subquota) is reached or is projected to be reached. Retaining, possessing, or landing BFT under that quota category is prohibited on and after the effective date and time of a closure notice for that category, for the remainder of the fishing year, until the opening of the subsequent quota period or until such date as specified.

Every year, the BFT fishing year starts on January 1 and ends on December 31. The Angling category opens on January 1 and continues through December 31 or until the applicable quota or subquota is reached or projected to be reached, whichever comes first. As described in § 635.27(a), the current baseline U.S. BFT quota is 1,316.14 metric tons (mt) (not including the 25 mt ICCAT allocated to the United States to account for bycatch of BFT in pelagic longline fisheries in the Northeast Distant Gear Restricted Area per § 635.27(a)(3)). The Angling category baseline quota is 297.4 mt, of which 9.2 mt (3.1 percent of the annual Angling category quota) is sub-allocated for the harvest of large medium and giant (trophy) BFT by vessels fishing under the Angling category quota, with 2.3 mt (25 percent of the annual large medium and giant BFT Angling category quota) allocated for each of the four areas delineated at § 635.27(a)(2)(iii), including the area that is north of lat. 42° N (the Gulf of Maine area). Trophy BFT measure 73 inches (185 cm) CFL or greater. This closure action applies to the Gulf of Maine area.

Angling Category Trophy Bluefin Tuna Gulf of Maine Area Fishery Closure

As described above, the Angling category Gulf of Maine area trophy BFT subquota is 2.3 mt. While landings estimates from 2024 indicate that the overall Angling, Harpoon, and General category quotas were exceeded and NMFS expects to take action later this year to reduce the various category quotas consistent with the estimated overharvest, NMFS does not expect the 2025 trophy subquota, which is relatively small, to be affected.

Based on landings data from the NMFS Automated Catch Reporting System, as well as average catch rates and anticipated fishing conditions, NMFS has determined the Angling category Gulf of Maine area trophy BFT subquota of 2.3 mt is projected to be reached shortly. Therefore, retaining, possessing, or landing large medium or giant (i.e., measuring 73 inches (185 cm) CFL or greater) BFT north of lat. 42° N by persons aboard HMS Angling and HMS Charter/Headboat permitted vessels (when fishing recreationally) must cease at 11:30 p.m. local time on [insert date of publication in the Federal Register]. This closure will remain effective through December 31, 2025. This action applies to HMS Angling and HMS Charter/Headboat permitted vessels when fishing recreationally for BFT, and is taken consistent with the regulations at § 635.28(a)(1). This action is intended to prevent overharvest of the Angling category Gulf of Maine area trophy BFT subquota. NMFS previously closed all the other BFT trophy areas (90 FR 11233, March 5, 2025; 90 FR 17342, April 25, 2025; and 90 FR 21697, May 21, 2025). Therefore, with this closure of the Gulf of Maine area trophy BFT fishery, the Angling category trophy BFT fishery will be closed in all areas for 2025. In addition to this closure, NMFS, through a separate action, is simultaneously closing the Angling category fishery for school and large school/small medium (i.e., measuring 27 inches (68.5 cm) to less than 73 inches (185 cm) CFL) BFT. As a result of these closure actions, the Angling category fishery for BFT of all size classes is closed for the remainder of the year.

If needed to ensure available quotas or subquotas are not exceeded or to enhance fishing opportunities, subsequent Angling category adjustments or closures will be published in the Federal Register per §§ 635.27(a)(7) and 635.28(a)(1). Information regarding the Angling category fishery for Atlantic tunas, including daily retention limits for BFT measuring 27 inches (68.5 cm) to less than 73 inches (185 cm) CFL, and any further Angling category adjustments, is available at https://hmspermits.noaa.gov. During a closure, fishermen aboard HMS Angling and HMS Charter/Headboat permitted vessels when fishing recreationally may continue to catch and release (or tag and release) BFT of all sizes, subject to the requirements of the catch-and-release and tag-and-release programs at § 635.26. All BFT that are released must be handled in a manner that will maximize survival, and without removing the fish from the water, consistent with requirements at § 635.21(a)(1). For additional information on safe handling, see the “Careful Catch and Release” brochure available at https://www.fisheries.noaa.gov/resource/outreach-and-education/careful-catch-and-release-brochure/.

Monitoring and Reporting

NMFS will continue to monitor the BFT fisheries closely. Per § 635.5(c)(1), HMS Angling and HMS Charter/Headboat permitted vessel owners are required to report the catch of all BFT retained or discarded dead, within 24 hours of the landing(s) or end of each trip, by accessing https://hmspermits.noaa.gov, using the HMS Catch Reporting app, or calling 888-872-8862 (Monday through Friday from 8 a.m. until 4:30 p.m. Eastern Time).

Classification

NMFS issues this action pursuant to section 305(d) of the Magnuson-Stevens Act (16 U.S.C. 1855(d)) and regulations at 50 CFR part 635, and this action is exempt from review under Executive Order 12866.

The Assistant Administrator for NMFS (AA) finds that pursuant to 5 U.S.C. 553(b)(B), there is good cause to waive prior notice of, and an opportunity for public comment on, this action because it is impracticable and contrary to the public interest for the following reasons. Specifically, the regulations implementing the HMS FMP and its amendments provide for inseason retention limit adjustments and fishery closures to respond to the unpredictable nature of BFT availability on the fishing grounds, the migratory nature of this species, and the regional variations in the BFT fishery. Providing for prior notice and opportunity to comment is impracticable and contrary to the public interest as this fishery is currently underway and, based on the most recent landings information, the Angling category Gulf of Maine area trophy BFT fishery subquota is projected to be reached shortly. Delaying this action could result in trophy BFT landings which would exceed the 2025 Angling category Gulf of Maine area trophy subquota, which may result in future potential quota reductions for the Angling and other BFT categories, depending on the magnitude of a potential Angling category overharvest. NMFS must close the Gulf of Maine area trophy BFT fishery before additional landings of these sizes of BFT occur. NMFS notes that the public had an opportunity to comment on the underlying rulemakings that established the U.S. BFT quota and the inseason adjustment criteria.

For all of the above reasons, the AA also finds that pursuant to 5 U.S.C. 553(d), there is good cause to waive the 30-day delay in effectiveness.

Authority: 16 U.S.C. 971 et seq. and 1801 et seq.

Dated: August 8, 2025.
Michael P. Ruccio,
Acting Director, Office of Sustainable Fisheries, National Marine Fisheries Service.

[FR Doc. 2025-15285 Filed 8-8-25; 4:15 pm]

BILLING CODE 3510-22-P